DEPARTMENT OF JUSTICE

Antitrust Division

Notice Pursuant to the National Cooperative Research and Production Act of 1993—Naval Surface Technology & Innovation Consortium

Notice is hereby given that, on April 5, 2022, pursuant to Section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances. Specifically, Accurate Machine & Tool Corporation, Madison, AL; Anduril Industries, Inc., Irvine, CA; Archer Laboratories LLC, Albuquerque, NM; CHI Systems, Inc., Plymouth Meeting, PA; Cognovi Government Services (CGS), Dayton, OH; Consolidated Resource Imaging LLC, Grand Rapids, MI; Cynalytica, Inc., San Luis Obispo, CA; DESAPRO, Inc., Rockledge, FL; Empirical Systems Aerospace, Inc., San Luis Obispo, CA; Engineering Services Network, Inc., Woodbridge, VA; Equinox Innovative Systems, Columbia, MD; esc Aerospace US, Inc., Orlando, FL; GENERAL ELECTRIC COMPANY dba GE ADDITIVE, West Chester, OH; Immobileyes, Inc., Kent, OH; Kyrus Tech, Inc., Sterling, VA; Lane LLC, Goose Creek, SC; Magothy River Technologies LLC, Herndon, VA; Sertainty Corporation, Nashville, TN; Solena Systems, Inc., Rochester, NY; SWR Technologies, Inc., Fremont, CA; The NOMAD Group LLC, Morristown, NJ and Vertex Aerospace LLC, Madison, MS, have been added as parties to this venture.

No other changes have been made in either the membership or planned activity of the group research project. Membership in this group research project remains open, and NSTIC intends to file additional written notifications disclosing all changes in membership.

On October 8, 2019, NSTIC filed its original notification pursuant to Section 6(a) of the Act. The Department of Justice published a notice in the Federal Register pursuant to Section 6(b) of the Act on November 12, 2019 (84 FR 61071).

The last notification was filed with the Department on December 02, 2021. A notice was published in the Federal Register pursuant to Section 6(b) of the Act on March 11, 2022 (87 FR 14043).

Suzanne Morris,
Chief, Premerger and Division Statistics, Antitrust Division.

[FR Doc. 2022-10272 Filed 5-12-22; 8:45 am]

BILLING CODE